DEPARTMENT OF TRANSPORTATION

Office of the Secretary: Notice of Applications for Certificates of Public Convenience and Necessity and Foreign Air Carrier Permits Filed Under Subpart B (formerly Subpart Q) During the Week Ending June 26, 2010

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0163.

Date Filed: June 24, 2010.

Due Date for Answers, Conforming Applications, or Motion to Modify Scope: July 15, 2010.

Description: Application of Continental Airlines, Inc., and United Air Lines, Inc. requesting: (1) Approval of a defacto transfer of the certificates and other economic authority held by Continental, Continental Micronesia and Air Micronesia to the same carriers under common ownership with United and vice versa, (2) reissue the certificates and other authority issued to Continental, Continental Micronesia and Air Micronesia to Continental and/or United, and (3) reissue the certificates and other authority issued to United to United and/or Continental, Continental Micronesia and Air Micronesia.

Renee V. Wright,
Program Manager, Docket Operations, Federal Register Liaison.

[FR Doc. 2010-16614 Filed 7-7-10; 8:45 am]

BILLING CODE 4910-9X-P